DEPARTMENT OF TRANSPORTATION

Federal Aviation Administration

14 CFR Part 95

[Docket No. 31399; Amdt. No. 562]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, December 2, 2021.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on October 29, 2021.
Thomas J. Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, December 2, 2021.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 562, Effective Date December 2, 2021]
FROM | TO | MEA
§ 95.1001 Direct Routes—U.S. Color Routes
§ 95.20 Red Federal Airway R4 Is Amended To Delete
CHENA, AK NDB | BEAR CREEK, AK NDB | 5000

FROM | TO | MEA | MAA
§ 95.3000 Low Altitude RNAV Routes
§ 95.3407 RNAV Route T407 Is Added To Read
SIOUX FALLS, SD VORTAC | FFORT, SD WP | 3600 | 17500
FFORT, SD WP | FARGO, ND VOR/DME | *4500 | 17500
*3800—MOCA
FARGO, ND VOR/DME | GRAND FORKS, ND VOR/DME | 2700 | 17500
GRAND FORKS, ND VOR/DME | WUBED, MN WP | 2600 | 17500
WUBED, MN WP | U.S. CANADIAN BORDER | 2500 | 17500

FROM | TO | MEA
§ 95.6001 Victor Routes—U.S
§ 95.6015 VOR Federal Airway V15 Is Amended To Read in Part
ABERDEEN, SD VOR/DME | BISMARCK, ND VOR/DME | *5000
*3700—MOCA
§ 95.6044 VOR Federal Airway V44 Is Amended To Read in Part
FORISTELL, MO VORTAC | MOODS, IL FIX | 2700
SPEAK, MD FIX | SEA ISLE, NJ VORTAC | *7000
*2000—GNSS MEA
§ 95.6045 VOR Federal Airway V45 Is Amended To Read in Part
BLUEFIELD, WV VOR/DME | CHARLESTON, WV VOR/DME | 6000
§ 95.6059 VOR Federal Airway V59 Is Amended To Read in Part
PULASKI, VA VORTAC | SOFTY, WV FIX | 6400
SOFTY, WV FIX | BECKLEY, WV VOR/DME | #6000
#BECKLEY R-161 UNUSABLE
BECKLEY, WV VOR/DME | WARDO, WV FIX | 5100
§ 95.6136 VOR Federal Airway V136 Is Amended To Read in Part
SWELL, TN FIX | *VOLUNTEER, TN VORTAC | 3000
*5000—MCA VOLUNTEER, TN VORTAC, E BND
VOLUNTEER, TN VORTAC | AUBRY, TN FIX
| W BND | 5000
| E BND | 6000
AUBRY, TN FIX | *PITTE, TN FIX | 6000
*8000—MCA PITTE, TN FIX, E BND
PITTE, TN FIX | SNOWBIRD, TN VORTAC | 8000
§ 95.6173 VOR Federal Airway V173 Is Amended To Read in Part
SPINNER, IL VORTAC | PEOTONE, IL VORTAC | 4500
§ 95.6181 VOR Federal Airway V181 Is Amended To Delete
GRAND FORKS, ND VOR/DME | HUMBOLDT, MN VORTAC | 2600
HUMBOLDT, MN VORTAC | ZOMTA, MN WP | 2800
ZOMTA, MN WP | U.S. CANADIAN BORDER | 2800
§ 95.6206 VOR Federal Airway V206 Is Amended To Read in Part
KIRKSVILLE, MO VORTAC | OTTUMWA, IA VOR/DME | 3100
§ 95.6258 VOR Federal Airway V258 Is Amended To Read in Part
BECKLEY, WV VOR/DME | ZOOMS, WV FIX | UNUSABLE
§ 95.6266 VOR Federal Airway V266 Is Amended To Read in Part
SOUTH BOSTON, VA VORTAC | LAWRENCEVILLE, VA VORTAC | #*3000
*2000—MOCA
*2300—GNSS MEA
#LAWRENCEVILLE R-269 UNUSABLE, USE SOUTH BOSTON R-086
LAWRENCEVILLE, VA VORTAC | FRANKLIN, VA VORTAC | UNUSABLE
FRANKLIN, VA VORTAC | *SUNNS, NC FIX | UNUSABLE
*5000—MCA SUNNS, NC FIX, SE BND
§ 95.6270 VOR Federal Airway V270 Is Amended To Read in Part
BINGHAMTON, NY VOR/DME | DELANCEY, NY VOR/DME
| W BND | 4500
| E BND | 4800
DELANCEY, NY VOR/DME | *ACOVE, NY FIX | 6300
*8000—MRA
ACOVE, NY FIX | *ATHOS, NY FIX | 6300
*6000—MCA ATHOS, NY FIX, W BND
ATHOS, NY FIX | CHESTER, MA VOR/DME | 4500
§ 95.6271 VOR Federal Airway V271 Is Amended To Delete
MANISTEE, MI VOR/DME | ESCANABA, MI VOR/DME | *3000
*2100—MOCA
§ 95.6273 VOR Federal Airway V273 Is Amended To Read in Part
FALLZ, NJ FIX | HUGUENOT, NY VOR/DME | 3200
§ 95.6285 VOR Federal Airway V285 Is Amended To Delete
WHITE CLOUD, MI VOR/DME | MANISTEE, MI VOR/DME | #4000
#WHITE CLOUD R-332 TO MANISTEE UNUSABLE EXCEPT FOR AIRCRAFT EQUIPPED WITH SUITABLE RNAV SYSTEM WITH GPS
MANISTEE R-156 TO WHITE UNUSABLE EXCEPT FOR AIRCRAFT EQUIPPED WITH SUITABLE RNAV SYSTEM WITH GPS
MANISTEE, MI VOR/DME | TRAVERSE CITY, MI VOR/DME | #2800
#MANISTEE R-057 TO COP UNUSABLE EXCEPT FOR AIRCRAFT EQUIPPED WITH SUITABLE RNAV SYSTEM WITH GPS
§ 95.6412 VOR Federal Airway V412 Is Amended To Read in Part
REDWOOD FALLS, MN VOR/DME | FLYING CLOUD, MN VOR/DME | *4000
*2800—MOCA
§ 95.6433 VOR Federal Airway V433 Is Amended To Read in Part
BRIDGEPORT, CT VOR/DME | *PAWLING, NY VOR/DME | 3000
*5700—MCA PAWLING, NY VOR/DME, NW BND
PAWLING, NY VOR/DME | *CYPER, NY FIX
| SE BND | 6100
| NW BND | 10000
*15000—MRA
CYPER, NY FIX | *PETER, NY FIX | **10000
*10000—MCA PETER, NY FIX, NW BND
*10000—MCA PETER, NY FIX, SE BND
**6100—GNSS MEA
PETER, NY FIX | *ROCKDALE, NY VOR/DME | #**10000
*10000—MCA ROCKDALE, NY VOR/DME, SE BND
**6100—GNSS MEA
#ROCKDALE R-127 UNUSABLE BELOW 10000
§ 95.6438 Alaska VOR Federal Airway V438 Is Amended To Read in Part
FORT YUKON, AK VORTAC | *UVALL, AK FIX | 10000
*10000—MCA UVALL, AK FIX, SE BND
UVALL, AK FIX | DEADHORSE, AK VOR/DME
| NW BND | 2300
| SE BND | 10000
§ 95.6489 VOR Federal Airway V489 Is Amended To Read in Part
HUGUENOT, NY VOR/DME | *WEARD, NY FIX | **4000
*15000—MCA WEARD, NY FIX, NE BND
**3500—MOCA
WEARD, NY FIX | *FILPS, NY FIX | **15000
*15000—MRA
*15000—MCA FILPS, NY FIX, NE BND
*15000—MCA FILPS, NY FIX, SW BND
**6000—MOCA
**7000—GNSS MEA
FILPS, NY FIX | *SAGES, NY FIX | **15000
*15000—MCA SAGES, NY FIX, NE BND
*15000—MCA SAGES, NY FIX, SW BND
**6400—MOCA
**7000—GNSS MEA
SAGES, NY FIX | *CYPER, NY FIX | **15000
*15000—MRA
*15000—MCA CYPER, NY FIX, NE BND
*15000—MCA CYPER, NY FIX, SW BND
**6100—GNSS MEA
CYPER, NY FIX | *AGNEZ, NY FIX | **15000
*15000—MRA
*15000—MCA AGNEZ, NY FIX, SW BND
*15000—MCA AGNEZ, NY FIX, NE BND
**6300—GNSS MEA
AGNEZ, NY FIX | *ALBANY, NY VORTAC | **15000
*13300—MCA ALBANY, NY VORTAC, SW BND
**6200—GNSS MEA

FROM | TO | MEA | MAA
§ 95.7001 Jet Routes
§ 95.7042 Jet Route J42 Is Amended To Delete
TEXARKANA, AR VORTAC | MEMPHIS, TN VORTAC | 18000 | 45000
MEMPHIS, TN VORTAC | NASHVILLE, TN VORTAC | 18000 | 45000
NASHVILLE, TN VORTAC | FOUNT, KY FIX | 18000 | 45000
FOUNT, KY FIX | TONIO, KY FIX | *20000 | 35000
*18000—GNSS MEA
TONIO, KY FIX | BECKLEY, WV VOR/DME | 18000 | 35000
BECKLEY, WV VOR/DME | MONTEBELLO, VA VOR/DME | 18000 | 41000
#BECKLEY R-091 UNUSABLE
MONTEBELLO, VA VOR/DME | GORDONSVILLE, VA VORTAC | 18000 | 41000
GORDONSVILLE, VA VORTAC | NOTTINGHAM, MD VORTAC | 18000 | 45000
NOTTINGHAM, MD VORTAC | *GRACO, MD FIX | 18000 | 35000
*10000—MRA
GRACO, MD FIX | WOODSTOWN, NJ VORTAC | 18000 | 45000
WOODSTOWN, NJ VORTAC | ROBBINSVILLE, NJ VORTAC | 18000 | 45000
ROBBINSVILLE, NJ VORTAC | HARTFORD, CT VOR/DME | 18000 | 45000
HARTFORD, CT VOR/DME | PUTNAM, CT VOR/DME | 18000 | 45000
PUTNAM, CT VOR/DME | BOSTON, MA VOR/DME | 18000 | 45000
§ 95.7107 Jet Route J107 Is Amended To Delete
DUPREE, SD VOR/DME | HUMBOLDT, MN VORTAC | 21000 | 45000
HUMBOLDT, MN VORTAC | U.S. CANADIAN BORDER | 18000 | 45000
U.S. CANADIAN BORDER | U.S. CANADIAN BORDER | 18000 | 45000
§ 95.7150 Jet Route J150 Is Amended To Delete
GORDONSVILLE, VA VORTAC | NOTTINGHAM, MD VORTAC | 18000 | 45000
NOTTINGHAM, MD VORTAC | *GRACO, MD FIX | 18000 | 35000
*10000—MRA
GRACO, MD FIX | WOODSTOWN, NJ VORTAC | 18000 | 45000
WOODSTOWN, NJ VORTAC | COYLE, NJ VORTAC | 18000 | 45000
COYLE, NJ VORTAC | HAMPTON, NY VORTAC | 18000 | 45000
HAMPTON, NY VORTAC | MONTT, NY FIX | #
#UNUSABLE
MONTT, NY FIX | MARCONI, MA VOR/DME | #
#UNUSABLE
MARCONI, MA VOR/DME | STOOL, MA FIX | #
#UNUSABLE
§ 95.7174 Jet Route J174 Is Amended To Read in Part
SNOW HILL, MD VORTAC | YAZUU, NJ FIX | 18000 | 45000
YAZUU, NJ FIX | HAMPTON, NY VORTAC | UNUSABLE
§ 95.7191 Jet Route J191 Is Amended To Delete
ROBBINSVILLE, NJ VORTAC | DAVYS, NJ FIX | 18000 | 45000
DAVYS, NJ FIX | SMYRNA, DE VORTAC | 18000 | 33000
SMYRNA, DE VORTAC | PATUXENT, MD VORTAC | 18000 | 45000
PATUXENT, MD VORTAC | HUBBS, VA FIX | 18000 | 45000
HUBBS, VA FIX | HOPEWELL, VA VORTAC | 18000 | 22000
§ 95.7193 Jet Route J193 Is Amended To Delete
WILMINGTON, NC VORTAC | COFIELD, NC VORTAC | 18000 | 45000
COFIELD, NC VORTAC | HARCUM, VA VORTAC | 18000 | 29000
HARCUM, VA VORTAC | HUBBS, VA FIX | 18000 | 28000
§ 95.7222 Jet Route J222 Is Amended To Delete
ROBBINSVILLE, NJ VORTAC | KENNEDY, NY VOR/DME | 18000 | 45000
KENNEDY, NY VOR/DME | CAMBRIDGE, NY VOR/DME | 18000 | 31000
§ 95.7225 Jet Route J225 Is Amended To Delete
CEDAR LAKE, NJ VOR/DME | KENNEDY, NY VOR/DME | 18000 | 45000
KENNEDY, NY VOR/DME | PROVIDENCE, RI VOR/DME | 18000 | 45000
§ 95.7515 Jet Route J515 Is Amended To Delete
FARGO, ND VOR/DME | HUMBOLDT, MN VORTAC | 18000 | 45000
HUMBOLDT, MN VORTAC | U.S. CANADIAN BORDER | 18000 | 45000

AIRWAY SEGMENT: FROM | AIRWAY SEGMENT: TO | CHANGEOVER POINTS: DISTANCE | CHANGEOVER POINTS: FROM
§ 95.8003 VOR Federal Airway Changeover Point
V266 IS AMENDED TO DELETE CHANGEOVER POINT
SOUTH BOSTON, VA VORTAC | LAWRENCEVILLE, VA VORTAC | 38 | SOUTH BOSTON
§ 95.8005 Jet Routes Changeover Points
J42 Is Amended To Delete Changeover Point
MEMPHIS, TN VORTAC | NASHVILLE, TN VORTAC | 119 | MEMPHIS
BEKLEY, WV VOR/DME | MONTEBELLO, VA VORDME | 56 | BECKLEY
J174 Is Amended To Add Changeover Point
SNOW HILL, MD VORTAC | HAMPTON, NY VORTAC | 106 | SNOW HILL
J193 Is Amended To Delete Changeover Point
COFIELD, NC VORTAC | HARCUM, VA VORTAC | 36 | COFIELD
J503 Is Amended To Add Changeover Point
SEATTLE, WA VORTAC | PRINCETON, CA VORTAC | 108 | SEATTLE

[FR Doc. 2021-24451 Filed 11-8-21; 8:45 am]

BILLING CODE 4910-13-P